LEGAL SERVICES CORPORATION

Sunshine Act Meeting of the Board of Directors Finance Committee

Time and Date: The Finance Committee of the Legal Services Corporation Board of Directors will meet June 4, 2004. The meeting will commence immediately following conclusion of the Provision for the Delivery of Legal Services Committee meeting, the deliberations of which are anticipated to terminate at approximately 3:45 p.m.

Location: The Hilton Omaha, Hill Room, 1001 Cass Street, Omaha, Nebraska 68102.

Status of Meeting: Open.

Matters to be Considered:

Open Session

1. Approval of agenda.

2. Approval of the minutes of the Committee's meeting of April 30, 2004.

3. Report on FY 2004 Internal Budgetary Adjustments as recommended by the President and Inspector General.

4. Consider and act on any FY 2004 COB Reallocations as recommended by the President and/or Inspector General.

5. Report on LSC's Financial Report for the Seven-Month Period Ending April 30, 2004.

6. Report on the status of the FY 2005 Appropriations process.

7. Preliminary discussion regarding the FY 2006 Budget “Mark”.

8. Consider and act on other business.

9. Public comment.

10. Consider and act on adjournment of meeting.

CONTACT PERSON FOR INFORMATION: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: May 26, 2004.
Victor M. Fortuno,
Vice President for Legal Affairs, General Counsel & Corporate Secretary.

[FR Doc. 04-12583 Filed 5-28-04; 1:37 pm]

BILLING CODE 7050-01-P